DEPARTMENT OF HEALTH AND HUMAN SERVICES

Health Resources and Services Administration

Agency Information Collection Activities; Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Ryan White HIV/AIDS Program, Part A Minority AIDS Initiative Report (the Part A MAI Report).

OMB No. 0915-0304—Extension.

Abstract: HRSA's HIV/AIDS Bureau administers the Ryan White HIV/AIDS Part A Program authorized under Title XXVI of the Public Health Service (PHS) Act (Ryan White HIV/AIDS Program). Part A provides emergency relief for areas with substantial need for HIV/AIDS care and support services that are most severely affected by the HIV/AIDS epidemic, including eligible metropolitan areas (EMAs) and transitional grant areas (TGAs). As a component of Part A, the purpose of the MAI funding is to improve access to high quality HIV care, services, and outcomes for individuals in disproportionately impacted communities of color who are living with HIV disease, including African Americans, Latinos, Native Americans, Asian Americans, Native Hawaiians, and Pacific Islanders (Section 2693(b)(2)(A) of the PHS Act). Since the purpose of the Part A MAI is to expand access to medical, health, and social support services for disproportionately impacted racial/ethnic minority populations living with HIV/AIDS, it is important that HRSA is able to report on minorities served by the Part A MAI.

The Part A MAI Report is a data collection instrument in which grantees report on the number and characteristics of clients served and services provided. The Part A MAI Report, first approved for use in March 2006, is designed to collect performance data from Part A grantees. The report has two parts: (1) A web-based data entry application that collects standardized quantitative and qualitative information and (2) an accompanying narrative report. Grantees submit two Part A MAI Reports annually: The Part A MAI Plan (Plan) and the Part A MAI Year-End Annual Report (Annual Report). The Plan and Annual Report components of the report are linked to minimize the reporting burden and include drop-down menu responses; fields for reporting budget, expenditure, and aggregated client level data; and open-ended responses for describing client or service-level outcomes. Together, the Plan and Annual Report components collect information from grantees on MAI-funded services, expenditure patterns, the number and demographics of clients served, and client-level outcomes.

The MAI Plan Narrative that accompanies the Plan web forms provides: (1) An explanation of the data submitted in the Plan web forms; (2) a summary of the Plan, including the Plan and timeline for disbursing funds, monitoring service delivery, and implementing any service-related capacity development or technical assistance activities; and (3) the Plan and timeline for documenting client-level outcome measures. In addition, if the EMA/TGA revised any planned services, allocation amounts, or target communities after their grant application was submitted, the changes must be highlighted and explained. The accompanying MAI Annual Report Narrative describes: (1) Progress towards achieving specific goals and objectives identified in the grantee's approved MAI Plan for that fiscal year and in linking MAI services/activities to Part A and other Ryan White HIV/AIDS Program services; (2) achievements in relation to client-level health outcomes; (3) summary of challenges or barriers at the provider or grantee levels, the strategies and/or action steps implemented to address them, and lessons learned; and (4) discussion of MAI technical assistance needs identified by the EMA/TGA.

This information is needed to monitor and assess: (1) Changes in the type and amount of HIV/AIDS health care and related services being provided to each disproportionately impacted community of color; (2) the aggregate number of persons receiving HIV/AIDS services within each racial and ethnic community; and (3) the impact of Part A MAI-funded services in terms of client-level and service-level health outcomes. This information also is used to plan new technical assistance and capacity development activities, and influence the HRSA policy and program management functions. The data provided to HRSA does not contain individual or personally identifiable information. No changes have been made to the Part A MAI Report.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Part A MAI Report | 53 | 2 | 106 | 23.9 | 2,532.87

Dated: July 3, 2013.
Bahar Niakan,
Director, Division of Policy and Information Coordination.

[FR Doc. 2013-16557 Filed 7-9-13; 8:45 am]

BILLING CODE 4165-15-P